DEPARTMENT OF AGRICULTURE

Forest Service

Helena National Forest Travel Plan, Helena National Forest, Broadwater, Lewis & Clark, Meagher, and Powell Counties, MT

AGENCY: Forest Service, USDA.

ACTION: Cancellation notice.

SUMMARY: On December 1, 2000, a Notice of Intent (NOI) to prepare an environmental impact statement called the Helena National Forest Travel Plan was published in the 65 FR 75236. This NOI is hereby rescinded due to elapsed time since the appearance of the NOI in the Federal Register and changed scope of the proposal.

FOR FURTHER INFORMATION CONTACT: Chuck Neal, Travel Plan Coordinator, Helena National Forest, 2880 Skyway Drive, Helena MT 59601, phone 406-449-5201.

Dated: March 7, 2003.
Allen L. Christophersen,
Deputy Forest Supervisor.

[FR Doc. 03-6042 Filed 3-13-03; 8:45 am]

BILLING CODE 3410-11-P